DEPARTMENT OF THE INTERIOR

Fish and Wildlife Service

[FWS-R7-R-2009-N260; 70133-1265-0000-S3]

Arctic National Wildlife Refuge, Fairbanks, AK

AGENCY: U.S. Fish and Wildlife Service, Interior.

ACTION: Notice of intent to revise the comprehensive conservation plan and prepare an environmental impact statement; request for comment.

SUMMARY: We, the U.S. Fish and Wildlife Service (Service), will be developing a revised comprehensive conservation plan (CCP) and environmental impact statement (EIS) for Arctic National Wildlife Refuge (NWR, Refuge). The Revised CCP will establish goals and objectives, review Refuge rivers for potential recommendation for Congress for inclusion within the National Wild and Scenic Rivers System, and review Refuge lands for potential recommendation for Congress for inclusion within the National Wilderness Preservation System. We will use the internet, special mailings, public service announcements, newspaper advertisements, and other media to keep people updated throughout the planning process and to provide opportunities for input. We will hold public meetings in communities within and near the Refuge during preparation of the Revised CCP. We will also hold meetings in Anchorage, AK, Fairbanks, AK, and Washington, DC.

DATES: Meetings: A public scoping meeting will be held in Washington, DC on May 4, 2010, from 1 to 4 p.m. in the Department of the Interior Auditorium, 1849 C Street, NW., Washington, DC. In addition, we will hold public scoping meetings in Anchorage and Fairbanks, AK and in refuge area communities in Alaska. We will announce these meeting dates, times, and locations locally, at least 10 days prior to each meeting.

Comments: To ensure consideration, please send your written comments on the scope of the CCP revision by June 7, 2010.

ADDRESSES: Information about the Refuge and the Revised CCP is available on the internet at: http://arctic.fws.gov. Send your comments or requests for more information by any of the following methods.

E-mail: ArcticRefugeCCP@fws.gov. Include “Arctic NWR CCP” in the subject line of the message.

Fax: Attn: Sharon Seim, Planning Team Leader, (907) 456-0428.

U.S. Mail: Sharon Seim, Planning Team Leader, Arctic National Wildlife Refuge, 101 12th Ave., Rm. 236, Fairbanks, AK 99701.

In-Person Drop-off: You may drop off comments during regular business hours at the above address.

FOR FURTHER INFORMATION CONTACT: Sharon Seim, Planning Team Leader, phone (907) 456-0501.

SUPPLEMENTARY INFORMATION: The Alaska National Interest Lands Conservation Act of 1980 (94 Stat. 2371; ANILCA) requires us to develop a CCP for each refuge in Alaska. The purpose of developing a CCP is to provide refuge managers with a management strategy for achieving refuge purposes and contributing toward the mission of the National Wildlife Refuge System, consistent with sound principles of fish, wildlife, and habitat management and conservation; legal mandates; and Service policies. CCPs define long-term goals and objectives toward which refuge management activities are directed, and identify which uses may be compatible with the purposes of a refuge. CCPs are reviewed and updated in accordance with direction in Section 304(g) of ANILCA and the National Environmental Policy Act (NEPA, 42 U.S.C. 4321 et seq.). With this notice, we initiate our process for developing a revised CCP for the Arctic National Wildlife Refuge, Alaska. We furnish this notice in accordance with ANILCA, the National Wildlife Refuge System Administration Act (16 U.S.C. 668dd-668ee), the regulations implementing NEPA (40 CFR 1500-1508), and Service policies. The purpose of this notice is to (1) Advise other Federal and State agencies, Tribes, and the public of our intention to conduct detailed planning on this refuge and (2) obtain suggestions and information on the scope of issues to be considered in the EIS and during the development of the CCP.

Background

The Arctic National Wildlife Refuge is a vast area unique in North America—unique because it encompasses a full range of arctic and subarctic ecosystems that are whole and undisturbed, functioning as they have for centuries, largely free of human control and manipulation. The move to protect this corner of Alaska began in the early 1950s. Conservationists George Collins, Lowell Sumner, and Olaus and Mardy Murie, considered the primary founders of the Refuge, launched a campaign to permanently safeguard the area. Their effort succeeded and the Arctic Refuge was established.

The area originally named “Arctic National Wildlife Range” was created in 1960 by Public Land Order 2214, “[f]or the purpose of preserving unique wildlife, wilderness and recreational values. * * *” The Arctic National Wildlife Refuge is unique among Alaska conservation units because it was the first for which ecological thinking and concern for maintaining natural processes were significant factors in its establishment. It is also the only Alaska refuge for which the preservation of values was a founding purpose.

In 1980, ANILCA enlarged the area, designated much of the original Range as Wilderness, renamed the whole area the Arctic National Wildlife Refuge, and added four complementary purposes. The ANILCA purposes are: (i) To conserve fish and wildlife populations and habitats in their natural diversity, including, but not limited to, the Porcupine caribou herd (including participation in coordinated ecological studies and management of this herd and the Western Arctic caribou herd), polar bears, grizzly bears, muskox, Dall sheep, wolves, wolverines, snow geese, peregrine falcons and other migratory birds, Arctic char, and grayling; (ii) To fulfill the international fish and wildlife treaty obligations of the United States; (iii) To provide the opportunity for continued subsistence uses by local residents; and (iv) To ensure water quality and necessary water quantity within the Refuge.

Refuge Overview

The Arctic National Wildlife Refuge includes nearly 19.3 million acres, three wild rivers, and one of the largest areas of designated Wilderness in the United States. The majestic Brooks Range, with peaks and glaciers to 9,000 feet, dominates the Refuge. These rugged mountains extend east to west in a band 75 miles wide, rising abruptly from a tundra-covered plain. This treeless expanse is cut by numerous braided rivers and streams. South of the continental divide, rivers wind serpentine courses through broad, spruce-covered valleys dotted with lakes and sloughs. Nearly 180 species of birds, 45 species of mammals, and 36 species of fish have been counted on the Arctic Refuge. Vast mountains, diverse wildlife, and a wealth of habitats give this unspoiled national treasure high cultural heritage, scenic, scientific, and experiential values.

Public Involvement

We plan to provide public involvement opportunities in communities within and near the Refuge, as well as in Anchorage and Fairbanks, AK, and Washington, DC. The Washington, DC scoping meeting is scheduled for Tuesday, May 4, from 1 to 4 p.m. in the Department of the Interior Auditorium, 1849 C Street, NW., Washington, DC. With appropriate advance notice, the other scoping meetings will be held between April 17 and May 28, 2010, as weather and other conditions permit. Public notices of scoping meetings will be posted locally and placed on our Web site at http://arctic.fws.gov. We will be accepting comments via e-mail, U.S. mail, and telephone, and through personal contacts throughout the planning process.

The public's ideas and comments are an important part of the CCP process, and we invite public participation. The Service is looking for meaningful comments that will help determine the desired future conditions of the Refuge and address the full range of Refuge purposes. Some concerns and interests related to the Refuge will not be addressed in the Revised CCP. For example, the U.S. Congress has reserved for itself in section 1002(i) of the ANILCA, 16 U.S.C. 3142(i), the decision as to whether or not the Refuge Coastal Plain (also called the 1002 Area) should be made available for oil and gas development. Therefore, the Service does not have the authority to decide this issue, and we will not consider or respond to comments that support or oppose such development during this CCP process.

Public Availability of Comments

All comments we receive, including those from individuals, become part of the public record, and are available to the public upon request. Therefore, before including your name, address, phone number, e-mail address, or other personal identifying information with your comment, you should be aware that your entire comment—including this information—may be made available to the public upon request. While you can ask us in your comment to withhold your personal identifying information from public review, we cannot guarantee that we will be able to do so.

Dated: March 31, 2010.
Geoffrey L. Haskett,
Regional Director, U.S. Fish and Wildlife Service, Anchorage, Alaska.

[FR Doc. 2010-7850 Filed 4-6-10; 8:45 am]

BILLING CODE 4310-55-P